DEPARTMENT OF AGRICULTURE

Forest Service

Stanislaus National Forest; California; Social and Ecological Resilience Across the Landscape EIS

AGENCY: Forest Service, Agriculture (USDA).

ACTION: Notice of intent to prepare an environmental impact statement.

SUMMARY: The USDA Forest Service is preparing an Environmental Impact Statement (EIS) for the Social and Ecological Resilience Across the Landscape (SERAL) project. The overall purpose of the project is to increase the landscape's resilience to natural disturbances such as fire, drought, insects, and disease by restoring the forest structure and composition to its natural range of variation (NRV).

DATES: Comments concerning the scope of the analysis must be received by August 17, 2020. The draft environmental impact statement is expected February 2021 and the final environmental impact statement is expected February 2022.

ADDRESSES: Scoping comments may also be submitted electronically through https://cara.ecosystem-management.org/Public/commentInput?Project=56500. Written comments may be submitted via mail or by hand delivery to Stanislaus National Forest, Attn: SERAL, 19777 Greenley Road, Sonora, CA 95370.

FOR FURTHER INFORMATION CONTACT: Katie Wilkinson (Environmental Coordinator), 209-288-6321, or by email at kathryn.wilkinson@usda.gov.

Individuals who use telecommunication devices for the deaf (TDD) may call the Federal Information Relay Service (FIRS) at 1-800-877-8339 between 8 a.m. and 8 p.m., Eastern Time, Monday through Friday.

SUPPLEMENTARY INFORMATION: Proposed forest restoration treatments consist of prescribed fire, hand thinning, mastication, variable density thinning, hand the limited salvage of insect-, disease-, drought-, and fire-killed trees. Treatments will be strategically located where the forest structure is departed from the natural range of variation within a 116,000-acre project area. The proposed forest restoration treatments have been designed to implement management approaches provided in the Conservation Strategy for the California Spotted Owl in the Sierra Nevada (USDA Forest Service 2019), which require multiple forest plan amendments. Approximately 10,800 acres of strategic fire management features (linear fuelbreaks, prepared roadsides, and defensible space) are proposed within the project area to break up large expanses of continuous fuels, provide for firefighter access and safety, increase suppression opportunities, and provide control points for the implementation of prescribed fire. A combination of control and restoration treatments are also proposed to address invasive plant infestations occurring on the Stanislaus National Forest involving the use of herbicides with mechanical, manual, and cultural control methods over several years.

Purpose and Need for Action

The purpose of the SERAL EIS is to prepare the landscape for the safe reintroduction of fire as a key ecological process, increase the landscape's resilience and adaptive capacity to natural disturbances such as fire, drought, insects and disease, reduce the risk of fire spreading into communities or damaging critical infrastructure, and to manage the forest in a cost-effective manner, including making wood products available to local industries and businesses. The actions proposed in the SERAL project are needed to minimize the potential for large-, high-severity fire and habitat loss; shift the landscape vegetation structure and composition towards conditions that are more in alignment with its historic NRV, abate hazard trees; control occurrences of invasive, non-native plants; and assist wildfire management operations., conserve and/or restore terrestrial and aquatic ecosystems and protect these systems.

Proposed Action

The Stanislaus National Forest is proposing multiple actions to meet the purpose and need of the project, as described below.

A combination of mechanical thinning and prescribed fire is proposed for approximately 38,000 acres. The majority of the treatments (approximately 28,000 acres) will be focused within mid-closed forested areas and designed to create conditions favorable to allow forest succession towards a late-open seral open forest. The other approximate 10,000 acres of treatments will be located across late-closed and mid-closed seral forest areas designed to create a late-open and mid-open seral forest structure.

Treatment objectives to create both late-open and mid-open forest structure will be achieved through variable density thinning with strategically placed openings (gaps) and retained groups of trees (clumps) scattered throughout the treated landscape. Gaps and clumps will generally range in size between 0.1 and 0.5 acres each averaging approximately 0.25 acres in size and a gap frequency of approximately one every two acres. Thinning would primarily consist of timber harvesting but also includes non-commercial methods such as prescribed fire and biomass removal. Multiple logging systems, road maintenance, temporary road construction, and landing development would be required for commercial harvest. A proportion of the proposed restoration treatments will occur within California spotted owl protected activity centers and territories adhering to specifications based on guidance provided in the Conservation Strategy for the California Spotted Owl in the Sierra Nevada (USDA Forest Service 2019) and located strategically to ensure high quality habitat is maintained.

The conditional salvage of trees to respond to future insect and disease, drought (I&D, D) or fire mortality is included as part of the proposed action. When I&D, D mortality affects more than 30% of the overstory canopy, salvage is limited to areas within 0.25 miles of an existing road prism and not needing greater than 500 feet of temporary road to access the salvage unit. When less than 30% of the overstory canopy is affected by I&D, D mortality salvage may occur within restoration treatment areas but will be incorporated into the variable density thinning treatments to establish the desired gaps. Salvage of fire-killed trees would be authorized for abating hazard trees along high use roads (level 3,4, 5 and some level 2), and up to 500 acres per two HUC-6 watersheds, and a maximum of 1,000 acres per single fire event.

Additional treatments are proposed for approximately 10,800 acres within the project area to create a network of strategic fire management features (linear fuelbreaks, prepared roadsides, and defensible space). These features are proposed to break up large expanses of continuous fuels, provide for firefighter access and safety, increase suppression opportunities, and provide control points for the implementation of prescribed fire. To create these features, trees may be thinned to shaded fuelbreak standards and continuous vegetation under 8” DBH or 12 feet tall will be broken up into naturally appearing clumps or islands of varied size and shape.

Non-native invasive weed control and eradication treatments are proposed for mapped known invasive weed locations; additional acres to account for a 20% rate of spread from those known locations; and a limited number of acres where future infestations are discovered subsequent to the analysis.

Forest Plan Amendment

For more than a quarter of a century, the Forest Service has been engaging in proactive California spotted owl (CSO) conservation focusing on retaining suitable habitat and minimizing disturbance to breeding owls. However, new science indicates threats to spotted owls are shifting and evolving, environmental conditions are changing, and owl populations are declining in some areas of the species' range. The proposed forest plan amendments would allow the SERAL proposed landscape restoration treatments to best meet the purpose and need of the project and implement the guiding principles of the Conservation Strategy for the California Spotted Owl in the Sierra Nevada (USDA forest Service 2019), hereafter referred to as the “Conservation Strategy”. The Conservation Strategy provides conservation measures that provide some immediate stability for individual owls that allow landscape treatments to occur to better align the landscape with its NRV. The Conservation Strategy concludes that restoring landscape structure and function to be within the NRV can help develop resilient habitat conditions that provide CSO conservation in the long term.

The amendments are specific to the 116,000-acre project area and proposed NRV restoration treatments and are consistent with the 2012 Planning Rule. The substantive provisions of 36 CFR 219.8 through 219.11 that directly apply to the proposed amendments are 36 CFR 219.9 Diversity of Plant and Animal Communities, (a) Ecosystem plan components, (1) Ecosystem integrity (36 CFR 219.9(a)(1)); 36 CFR 219.9 Diversity of Plant and Animal Communities, (a) Ecosystem plan components, (2) Ecosystem diversity, (i) key characteristics associated with the terrestrial and aquatic ecosystem types (36 CFR 219.9(a)(2)(i)); 36 CFR 219.9 Diversity of Plant and Animal Communities, (a) Ecosystem plan components, (2) Ecosystem diversity, (ii) rare aquatic and terrestrial plant and animal communities (36 CFR 219.9(a)(2)(ii)); and 36 CFR 219.8 Sustainability, (b) Social and Economic Sustainability, (1) Social, cultural, and economic conditions relevant to the area influenced by the plan (36 CFR 219.8(b)(1)).

Responsible Official

The responsible official will be Jason Kuiken, Forest Supervisor, Stanislaus National Forest.

Nature of Decision To Be Made

Given the purpose and need, the responsible official will determine whether the proposed actions comply with all applicable laws governing Forest Service actions and with the applicable standards and guidelines found in the Stanislaus National Forest Forest Plan; whether the EIS has sufficient environmental analysis to make an informed decision; and whether the proposed action meets the purpose and need for action. With this information, the responsible official must decide whether to select the proposed action or one of any other potential alternatives that may be developed, and what, if any, additional actions should be required.

Scoping Process

This notice of intent initiates the scoping process, which guides the development of the EIS. Public comments regarding this proposal are requested in order to assist in identifying issues and opportunities associated with the proposal, how to best manage resources, and to focus the analysis. The SERAL project is subject to pre-decisional administrative review consistent with the Consolidated Appropriations Act of 2012 (Pub. L. 112-74) as implemented by subparts A and B of 36 CFR part 218. In addition, the proposed forest plan amendments are subject to pre-decisional administrative review, pursuant to subpart B of the Planning Rule (36 CFR part 219).

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered; however, anonymous comments will not provide the respondent eligibility to participate in subsequent administrative review.

Allen Rowley,
Associate Deputy Chief, National Forest System.

[FR Doc. 2020-15077 Filed 7-15-20; 8:45 am]

BILLING CODE 3411-15-P